CONSUMER PRODUCT SAFETY COMMISSION

Notice of Meeting of Chronic Hazard Advisory Panel on Diisononyl Phthalate (DINP)

AGENCY: Consumer Product Safety Commission.

ACTION: Notice of meeting.

SUMMARY: The Commission announces the third meeting of the Chronic Hazard Advisory Panel (CHAP) on diisononyl phthalate (DINP). The Commission appointed this CHAP to advise the Commission on any chronic hazards of cancer, birth defects, and gene mutations associated with children's products containing DINP.

DATES: The meeting will be held from 8:30 am to 5:00 pm on September 12 and from 8:30 am to 4:00 pm on September 13, 2000.

ADDRESSES: The meeting will be held in the fourth floor hearing room in the Commission's offices at 4330 East-West Highway, Bethesda, Maryland.

FOR FURTHER INFORMATION CONTACT: Marilyn Wind, Directorate for Health Sciences, Consumer Product Safety Commission, Washington, D.C. 20207; telephone (301) 504-0477, ext. 1205; email mwind@cpsc.gov.

SUPPLEMENTARY INFORMATION: The Commission has been concerned with potential risks posed to children under 3 years of age by the plasticizer diisononyl phthalate (DINP), which is used to soften some children's teethers, rattles, and toys made from polyvinyl chloride (PVC). DINP can leach from such products when they are mouthed, causing some DINP to be absorbed through mucous membranes. DINP has been shown to cause liver and other organ toxicity in laboratory animals. Also, the Commission has received a petition (No. HP 99-1) from the National Environmental Trust and eleven other organizations asking that the Commission ban PVC in certain children's products.

The Commission appointed a seven-member CHAP to evaluate the existing scientific information regarding chronic hazards posed by DINP and the implications of these hazards on risk to children. The CHAP members were selected from scientists recommended by the National Academy of Sciences. See 15 U.S.C. 2077 and 2080(b). The first meeting of the CHAP was on May 10-11, 2000. The second meeting of the CHAP was on June 20-22, 2000.

The third CHAP meeting will be from 8:30 am to 5:00 pm on September 12 and from 8:30 am to 4:00 pm on September 13, 2000. The purpose of the meeting is for the CHAP to discuss draft sections of the report they will submit to the Commission.

The meeting is open to the public. However, the CHAP will not entertain public comment during this meeting. The period for written public comment to the CHAP closed on June 13, 2000. Oral comment was also entertained by the CHAP on June 20, 2000 during its second meeting. See, Federal Register notice of second CHAP meeting. 65 FR 34446 (May 30, 2000).

Dated: August 7, 2000.
Sadye E. Dunn,
Secretary, Consumer Product Safety Commission.

[FR Doc. 00-20461 Filed 8-10-00; 8:45 am]

BILLING CODE 6355-01-U